ENVIRONMENTAL PROTECTION AGENCY

[EPA-HQ-OEI-2006-0037; FRL-8803-01-OMS]

Information Collection Request Submitted to OMB for Review and Approval; Comment Request; Exchange Network Grants Progress Reports (Renewal)

AGENCY: Environmental Protection Agency (EPA).

ACTION: Notice.

SUMMARY: The Environmental Protection Agency (EPA) is submitting an information collection request (ICR), Exchange Network Grants Progress Reports (EPA ICR Number 2207.08, OMB Control Number 2025-0006) to the Office of Management and Budget (OMB) for review and approval in accordance with the Paperwork Reduction Act. This is a proposed extension of the ICR, which is currently approved through September 30, 2021. Public comments were previously requested via the Federal Register on February 23, 2021, during a 60-day comment period. This notice allows for an additional 30 days for public comments. A brief description of the ICR is given below, including its estimated burden and cost to the public. An agency may not conduct or sponsor and a person is not required to respond to a collection of information unless it displays a currently valid OMB control number.

DATES: Additional comments may be submitted on or before August 27, 2021.

ADDRESSES: Submit your comments, referencing Docket ID No. EPA-HQ-OEI-2006-0037, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Edward Mixon or Dipti Singh, Information Exchange Services Division, Office of Information Management, Office of Mission Support (2823T), Environmental Protection Agency, 1200 Pennsylvania Ave. NW, Washington, DC 20460; telephone number: 202-566-2142 or 202-566-0739 respectively; email address: mixon.edward@epa.gov or singh.dipti@epa.gov.

SUPPLEMENTARY INFORMATION: Supporting documents, which explain in detail the information that the EPA collected, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the U.S. EPA National Environmental Information Exchange Network (NEIEN) Grant Program, EPA collects information from the NEIEN grantees on assistance agreements that EPA has awarded. Specifically, for each project, EPA proposes to have grantees submit a Semi-Annual report on the progress and current status of each goal and output, completion dates for outputs, and any problems encountered. This information will help EPA ensure projects are on schedule to meet their goals and produce high quality environmental results. New grant award recipients will complete one Quality Assurance Reporting Form for each award. This form provides a simple means for grant recipients to describe how quality will be addressed throughout their projects and is derived from guidelines provided in the NEIEN 2021 Grant Solicitation Notice. In addition, the grantees will submit a Final Progress report within 90 days of the grant period of performance end date.

Form Numbers: 5300-26, 5300-27.

Respondents/affected entities: State, tribal, and territorial environmental government offices.

Respondent's obligation to respond: Required to obtain or retain benefits (2 CFR part 200 and 2 CFR part 1500).

Estimated number of respondents: 220 total per year.

Frequency of response: Twice per year for the Semi-Annual Progress Report Form; once per grant for the Quality Assurance Reporting Form; and once for the Final Progress Report after close-out of the grant period of performance.

Total estimated burden: 508 hours (per year). Burden is defined at 5 CFR 1320.03(b).

Total estimated cost: $23,287.59 (per year), includes $0 annualized capital or operation & maintenance costs.

Changes in Estimates: There is an increase of 228 hours in the total estimated respondent burden compared with the ICR currently approved by OMB. This slight increase in burden is due to the fact that this ICR takes into consideration the 59.4 hours of burden associated with the submission of Final Progress Reports which was mistakenly omitted from the previous ICR. In addition, the respondents indicated a slight increase in the burden associated with submission of the forms. This slight increase in the burden hours, compounded by the slight inflation in labor rates also explains an increase of $7,100.60 in total annual respondent costs for 2021.

Courtney Kerwin,
Director, Regulatory Support Division.

[FR Doc. 2021-16088 Filed 7-27-21; 8:45 am]

BILLING CODE 6560-50-P